NATIONAL LABOR RELATIONS BOARD

Appointments of Individuals To Serve as Members of Performance Review Boards

5 U.S.C. 4314(c)(4) requires that the appointments of individuals to serve as members of performance review boards be published in the Federal Register. Therefore, in compliance with this requirement, notice is hereby given that the individuals whose names and position titles appear below have been appointed to serve as members of performance review boards in the National Labor Relations Board for the rating year beginning October 1, 1999 and ending September 30, 2000.

Name and Title

Richard L. Ahearn—Regional Director, Region 9

Frank V. Battle—Deputy Director of Administration

Kenneth A. Bolles—Chief Counsel to Board Member

Mary Joyce Carlson—Deputy General Counsel

Harold J. Datz—Chief Counsel to Board Member

Yvonne T. Dixon—Director, Office of Appeals

Robert A. Giannasi—Chief Administrative Law Judge

Lester A. Heltzer—Deputy Executive Secretary

John E. Higgins—Solicitor

Peter B. Hoffman—Regional Director, Region 34

Gloria Joseph—Director of Administration

Barry J. Kearney—Associate General Counsel, Advice

Richard A. Siegel—Associate General Counsel, Operations-Management

John J. Toner—Executive Secretary

Dennis P. Walsh—Chief Counsel to Board Member

Jeffrey D. Wedekind—Acting Chief Counsel to the Chairman

John J. Toner,
Executive Secretary.

[FR Doc. 00-30088 Filed 11-24-00; 8:45 am]

BILLING CODE 7545-01-M